DEPARTMENT OF TRANSPORTATION

Federal Railroad Administration

[Docket Number FRA-2011-0048]

Petition for Waiver of Compliance

In accordance with Part 211 of Title 49 of the Code of Federal Regulations (CFR), this document provides the public notice that by a document dated June 2, 2011, the Tri-County Metropolitan Transportation District of Oregon (TriMet) has petitioned the Federal Railroad Administration (FRA) for a waiver of compliance from certain provisions of the Federal railroad safety regulations contained at 49 CFR Part 219 Control of Drug and Alcohol Use; Part 220 Subpart B—Radio and Wireless Communication Procedures; Part 228.11 Hours of Safety Recordkeeping Requirements; and Part 229.125 Headlights and Auxiliary Headlights Candela Requirements. FRA assigned the petition Docket Number FRA-2011-0048.

TriMet has petitioned FRA for a waiver of compliance from certain provisions of the Federal railroad safety regulations contained in the CFR for the new 7.3-mile Orange Line extension of its rail fixed guide way transit system, which features limited connections to the general railroad system. These limited connections consist of a fully interlocked rail-rail at grade diamond crossing with Oregon Pacific Railroad and seven shared highway-rail grade crossings with the Union Pacific Railroad Company (two) and the Portland and Western Railroad (five). TriMet submits that the waivers are in the public interest and are consistent with railroad safety. Further, TriMet states that as a rail fixed guide way system under the oversight of the Oregon Department of Transportation, it will provide a level of safety equivalent to that provided by compliance with FRA regulations. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

A copy of the petition, as well as any written communications concerning the petition, is available for review online at http://www.regulations.gov and in person at the Department of Transportation's Docket Operations Facility, 1200 New Jersey Ave., SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received by August 15, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC on June 23, 2011.
Robert C. Lauby,
Deputy Associate Administrator for Regulatory & Legislative Operations.

[FR Doc. 2011-16411 Filed 6-29-11; 8:45 am]

BILLING CODE 4910-06-P